DEPARTMENT OF ENERGY

10 CFR Parts 429 and 430

[EERE-2014-BT-TP-0034]

RIN 1904-AD46

Energy Conservation Program: Test Procedures for Clothes Dryers

AGENCY: Office of Energy Efficiency and Renewable Energy, Department of Energy.

ACTION: Extension of public comment period.

SUMMARY: On July 23, 2019, the U.S. Department of Energy (“DOE”) published in the Federal Register a notice of proposed rulemaking (“NOPR”) regarding proposals to amend the test procedures for clothes dryers and to request comment on the proposals and other aspects of clothes dryer testing. This notice also announced a webinar to be held on August 14, 2019, and stated that DOE would hold a public meeting on the proposal if one was requested by August 6, 2019. On July 29, 2019, DOE received a comment requesting a public meeting.

DATES: The comment period for the NOPR published on July 23, 2019 (84 FR 35484), is extended. DOE will accept comments, data, and information regarding this proposed rulemaking received no later than November 6, 2019.

ADDRESSES: Interested persons are encouraged to submit comments using the Federal eRulemaking Portal at http://www.regulations.gov. Follow the instructions for submitting comments. Alternatively, interested persons may submit comments, identified by “Test Procedure NOPR for Clothes Dryers” and by docket number EERE-2014-BT-TP-0034 and/or the regulatory information number (“RIN”) 1904-AD46, by any of the following methods:

(1) Federal eRulemaking Portal: http://www.regulations.gov. Follow the instructions for submitting comments.

(2) Email: ResClothesDryer2014TP0034@ee.doe.gov. Include the docket number EERE-2014-BT-TP-0034 and/or RIN 1904-AD46 in the subject line of the message.

(3) Postal Mail: Appliance and Equipment Standards Program, U.S. Department of Energy, Building Technologies Office, Mailstop EE-5B, 1000 Independence Avenue SW, Washington, DC 20585-0121. Telephone: (202) 287-1445. If possible, please submit all items on a compact disc (“CD”), in which case it is not necessary to include printed copies.

(4) Hand Delivery/Courier: Appliance and Equipment Standards Program, U.S. Department of Energy, Building Technologies Office, 950 L'Enfant Plaza SW, 6th Floor, Washington, DC 20024. Telephone: (202) 287-1445. If possible, please submit all items on a CD, in which case it is not necessary to include printed copies.

No telefacsimilies (faxes) will be accepted.

Docket: The docket for this activity, which includes Federal Register notices, comments, and other supporting documents/materials, is available for review at http://www.regulations.gov. All documents in the docket are listed in the http://www.regulations.gov index. However, some documents listed in the index, such as those containing information that is exempt from public disclosure, may not be publicly available.

The docket web page can be found at https://www.regulations.gov/docket?D=EERE-2014-BT-TP-0034. The docket web page contains instructions on how to access all documents, including public comments, in the docket.

FOR FURTHER INFORMATION CONTACT:

Mr. Bryan Berringer, U.S. Department of Energy, Office of Energy Efficiency and Renewable Energy, Building Technologies Office, EE-5B, 1000 Independence Avenue SW, Washington, DC 20585-0121. Telephone: (202) 586-0371. Email: ApplianceStandardsQuestions@ee.doe.gov.

Ms. Elizabeth Kohl, U.S. Department of Energy, Office of the General Counsel, GC-33, 1000 Independence Avenue SW, Washington, DC 20585-0121. Telephone: (202) 586-7796. Email: Elizabeth.Kohl@hq.doe.gov.

For further information on how to submit a comment, review other public comments and the docket, or regarding a public meeting, contact the Appliance and Equipment Standards Program staff at (202) 287-1445 or by email: ApplianceStandardsQuestions@ee.doe.gov.

SUPPLEMENTARY INFORMATION: On July 23, 2019, the U.S. Department of Energy (“DOE”) published in the Federal Register a notice of proposed rulemaking and request for comment regarding proposals to amend the test procedures for clothes dryers. 84 FR 35484. This notice also announced a webinar to be held on August 14, 2019, and stated that DOE would hold a public meeting to discuss the proposals if one was requested by August 6, 2019.

On July 29, 2019, DOE received a comment from the Northwest Energy Efficiency Alliance (NEEA), the Natural Resources Defense Council (NRDC), and Pacific Gas and Electric Company (PG&E) requesting that DOE hold an in-person public meeting regarding the proposed amendments to the clothes dryers test procedures.¹ On August 2, 2019, DOE issued a pre-publication Federal Register notice announcing a public meeting and webinar to be held on August 28, 2019 and cancelled the previously announced webinar scheduled for August 14, 2019. 84 FR 39777.

¹ See document number 17 within docket EERE-2014-BT-TP-0034, available on http://www.regulations.gov.

On August 2, 2019 and August 5, 2019, DOE received subsequent comments from Association of Home Appliance Manufacturers (AHAM) requesting to move the webinar and public meeting into September 2019.² On August 21, 2019, DOE published a notice in the Federal Register changing the public meeting from August 28, 2019 to September 17, 2019 and extending the public comment period for submitting comments and data on the NOPR by 14 days to October 7, 2019. 84 FR 43529.

² See document numbers 18 and 19 within docket EERE-2014-BT-TP-0034, available on http://www.regulations.gov.

On September 20, 2019, DOE received a comment from NEEA, NRDC, and PG&E requesting an additional 60 day comment period extension.³ DOE has reviewed the request and considered the benefit to stakeholders in providing additional time to review the NOPR and gather information/data that DOE is seeking. Accordingly, DOE has determined that an extension of the comment period is appropriate, and is hereby extending the comment period by 30 days to November 6, 2019. DOE will be extending the original July 23, 2019 NOPR comment period by an additional 44 days for a total of 104 days for this comment period.

³ See document number 22 within docket EERE-2014-BT-TP-0034, available on http://www.regulations.gov.

Signed in Washington, DC, on September 27, 2019.
Alexander N. Fitzsimmons,
Acting Deputy Assistant Secretary for Energy Efficiency, Energy Efficiency and Renewable Energy.

[FR Doc. 2019-21533 Filed 10-2-19; 8:45 am]

BILLING CODE 6450-01-P